FEDERAL COMMUNICATIONS COMMISSION

[DA 99-2844]

Process for Providing Service Under Global International section 214 Authorizations Using Approved Non-U.S.-Licensed Satellite Systems Listed on the Permitted Space Station List

AGENCY: Federal Communications Commission.

ACTION: Notice.

SUMMARY: This document announces a change in the International Bureau's interpretation of its Exclusion List in light of the Commission's decision in the DISCO II Recon. proceeding. This action will reduce the regulatory burden on carriers seeking to provide international services using certain non-U.S.-licensed satellite systems by permitting the use of pre-approved satellites under global international section 214 authorizations without the need to obtain separate authority for such non-U.S.-licensed satellites.

DATES: Effective December 22, 1999.

FOR FURTHER INFORMATION CONTACT: Lisa Choi, Policy and Facilities Branch, Telecommunications Division, International Bureau, (202) 418-1460.

SUPPLEMENTARY INFORMATION: 1. The International Bureau announces its interpretation of its Exclusion List for International section 214 Authorizations (Exclusion List) to conform to a recent Commission order streamlining rules relating to the use of non-U.S. licensed satellite systems. See Amendment of the Commission's Regulatory Policies to Allow Non-U.S. Licensed Space Stations to Provide Domestic and International Satellite Service in the United States, IB Docket No. 96-111, FCC 99-325 (64 FR 61791, November 15, 1999).

2. The Commission developed the Exclusion List as a procedural mechanism to identify restrictions on providing common carrier service. The Exclusion List identifies those countries or facilities that are not included within the scope of a global section 214 authorization (61 FR 15724, April 9, 1996). When a carrier seeks to use facilities or serve a country that is on the Exclusion List, the carrier must file a separate section 214 application pursuant to § 63.18(e)(4) of the Commission's rules.

3. Currently, the Exclusion List prohibits carriers from using all non-U.S.-licensed satellite systems without obtaining a separate section 214 authorization (64 FR 19057, April 19, 1999). The Commission, however, recently changed its rules regarding the use of non-U.S.-licensed satellite systems in the DISCO II Recon. proceeding. In the DISCO II Recon. proceeding, the Commission simplified the process by which authorized non-U.S.-licensed fixed satellites may serve the U.S. market. In particular, U.S. earth station operators with ALSAT licenses will be permitted to access a non-U.S.-licensed satellite to provide fixed-satellite service in the conventional C- or Ku-bands without further regulatory approval, once that non-U.S.-licensed satellite has been authorized to serve the United States. Originally, earth station operators with ALSAT licenses were permitted to access any U.S.-licensed satellite. In the DISCO II Recon. proceeding, these licensees' authority was expanded to include non-U.S.-licensed satellites on the Permitted Space Station List. Pursuant to the DISCO II Recon. proceeding, the International Bureau will keep a list of such authorized non-U.S.-licensed satellite systems to be referred to as the Permitted Space Station List (www.fcc.gov/ib/srd/se/permitted.html).

4. In light of the DISCO II Recon. proceeding, it is not necessary to require holders of global section 214 authorizations to file for and obtain a separate section 214 authorization for non-U.S.-licensed satellite systems that have been authorized to provide fixed-satellite service in the United States and placed on the Permitted Space Station List. Prior to placing a space station on the Permitted Space Station List, the Commission will conduct a proceeding that will provide parties notice and an opportunity to comment on any potential Title III or section 214 issues raised by permitting operators with ALSAT licenses to access the non-U.S.-licensed satellite.

5. Accordingly, we interpret the Exclusion List restriction for all non-U.S.-licensed satellite systems to refer only to non-U.S.-licensed satellite systems that are not listed on the Permitted Space Station List. This interpretation will avoid confusion, reduce regulatory burden, and ensure that the Exclusion List is consistent with the Commission's policies. This interpretation of the Exclusion List became effective December 22, 1999. The announcement of the effective date of the DISCO II Recon. proceeding is published elsewhere in this issue of the FR. Until the DISCO II Recon. proceeding became effective, the Commission required that carriers wishing to use non-U.S.-licensed satellite systems must file a separate section 214 application pursuant to § 63.18(e)(4) of the Commission's rules.

Federal Communications Commission.
Magalie Roman Salas,
Secretary.

Attachment—Exclusion List for International Section 214 Authorizations Last Modified December 22, 1999

The following is a list of countries and facilities not covered by grant of global section 214 authority under § 63.18(e)(1) of the Commission's Rules, 47 CFR 63.18(e)(1). In addition, the facilities listed shall not be used by U.S. carriers authorized under § 63.18 of the Commission's Rules unless the carrier's section 214 authorization specifically lists the facility.

Carriers desiring to serve countries or use facilities listed as excluded hereon shall file a separate section 214 application pursuant to § 63.18(e)(4) of the Commission's Rules. See generally 47 CFR 63.22.

Countries: Cuba (Applications for service to Cuba shall comply with the separate filing requirements of the Commission's Public Notice Report No. I-6831, dated July 27, 1993, “FCC to Accept Applications for Service to Cuba.”)

Facilities: All non-U.S.-licensed satellite systems that are not on the Permitted Space Station List, maintained at www.fcc.gov/ib/srd/se/permitted.html. See International Bureau Public Notice, DA 99-2844 (rel. Dec. 17, 1999).

This list is subject to change by the Commission when the public interest requires. Before amending the list, the Commission will first issue a public notice giving affected parties the opportunity for comment and hearing on the proposed changes. The Commission may then release an order amending the exclusion list. This list also is subject to change upon issuance of an Executive Order. See Streamlining the section 214 Authorization Process and Tariff Requirements, IB Docket No. 95-118, FCC 96-79, 11 FCC Rcd 12,884, released March 13, 1996 (61 Fed. Reg. 15,724, April 9, 1996). A current version of this list is maintained at http://www.fcc.gov/ib/td/pf/exclusionlist.html. For additional information, contact the International Bureau's Telecommunications Division, Policy & Facilities Branch, (202) 418-1460.

[FR Doc. 00-1620 Filed 1-21-00; 8:45 am]

BILLING CODE 6712-01-U